DEPARTMENT OF JUSTICE

Antitrust Division

Notice Pursuant to the National Cooperative Research And Production Act of 1993—Cooperative Research Group on Advanced Engine Fluids

Notice is hereby given that, on March 20, 2015, pursuant to Section 6(a) of the National Cooperative Research and Production Act of 1993, 15 U.S.C. 4301 et seq. (“the Act”), Southwest Research Institute—Cooperative Research Group on Advanced Engine Fluids (“AEF”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Caterpillar Inc., Lafayette, IN; Cummins Inc., Columbus, IN; ExxonMobil Research and Engineering Co., Paulsboro, NJ; Infineum USA L.P., Linden, NJ; Sasol Technology (PTY) Ltd., Rosebank, SOUTH AFRICA; Total Marketing Services, Puteaux, FRANCE; and Toyota Motor Corp., Shizuoka, JAPAN. The general area of AEF's planned activity is to develop a fundamental understanding of the interaction between fuel and lubricant properties and engine operation, particularly for advanced engine technologies that are moving toward production. The focus of the program will be to develop and apply advanced analytical methods to investigate the detailed chemical and physical interactions between the combustion system and the fuels and lubricants. Initial projects focus on four distinct areas: (1) Investigation of the fundamental processes causing LSPI and potential mitigation strategies through controls and hardware optimization; (2) investigation of fuel octane, physical properties, and chemistry on knock resistance and engine efficiency; (3) evaluation of the impact of dual-fuel combustion strategies on lubricating oil performance and chemistry; and (4) evaluation of alternative fuel chemistry and properties on engine efficiency and performance.

Patricia A. Brink,
Director of Civil Enforcement, Antitrust Division.

[FR Doc. 2015-09319 Filed 4-21-15; 8:45 am]

BILLING CODEP